DEPARTMENT OF THE TREASURY

Submission for OMB Review; Comment Request

November 22, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 2, 2007 to be assured of consideration.

Internal Revenue Service (IRS)

OMB Number: 1535-0089.

Type of Review: Revision.

Title: Implementing Regulations: Government Securities Act of 1986, as amended.

Description: Regulations require government securities broker/dealers to keep certain records concerning government securities activities and submit financial reports.

Respondents: Business or other for-profits.

Estimated Total Burden Hours: 373,335 hours.

Clearance Officer: Vicki S. Thorpe (304) 480-8150, Bureau of the Public Debt, 200 Third Street, Parkersburg, West Virginia 26106.

OMB Reviewer: Alexander T. Hunt (202) 395-7316, Office of Management and Budget, Room 10235, New Executive Office Building, Washington, DC 20503.

Michael A. Robinson,
Treasury PRA Clearance Officer.

[FR Doc. E6-20271 Filed 11-29-06; 8:45 am]

BILLING CODE 4810-39-P